ENVIRONMENTAL PROTECTION AGENCY

[FRL-9904-21-OW]

Underground Injection Control Program; Hazardous Waste Injection Restrictions; Petition for Exemption—Class I Hazardous Waste Injection; Mosaic Fertilizer, LLC Uncle Sam, LA

AGENCY: Environmental Protection Agency (EPA).

ACTION: Notice of a final decision on a no migration petition.

SUMMARY: Notice is hereby given that an exemption to the land disposal Restrictions, under the 1984 Hazardous and Solid Waste Amendments to the Resource Conservation and Recovery Act, has been granted to Mosaic Fertilizer, LLC for two Class I injection wells located at Uncle Sam, LA. The company has adequately demonstrated to the satisfaction of the Environmental Protection Agency by the petition application and supporting documentation that, to a reasonable degree of certainty, there will be no migration of hazardous constituents from the injection zone for as long as the waste remains hazardous. This final decision allows the underground injection by Mosaic, of the specific restricted hazardous wastes identified in this exemption, into Class I hazardous waste injection wells WDW-1 and WDW-2 for 57 years from the date of the petition approval, unless EPA moves to terminate this exemption. Additional conditions included in this final decision may be reviewed by contacting the Region 6 Ground Water/UIC Section. A public notice was issued September 24, 2013. The public comment period closed on November 26, 2013. No comments were received. This decision constitutes final Agency action and there is no Administrative appeal. This decision may be reviewed/appealed in compliance with the Administrative Procedure Act.

DATES: This action is effective as of December 4, 2013.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-8324.

Dated: December 4, 2013.
David F. Garcia
Deputy Director, Water Quality Protection Division.

[FR Doc. 2013-29983 Filed 12-16-13; 8:45 am]

BILLING CODE 6560-50-P